DEPARTMENT OF HEALTH AND HUMAN SERVICES

Health Resources and Services Administration

National Advisory Council on the National Health Service Corps; Notice of Meeting

In accordance with section 10(a)(2) of the Federal Advisory Committee Act (Public Law 92-463), notice is hereby given of the following meeting:

Name: National Advisory Council on the National Health Service Corps.

Dates and Times: July 22, 2004, 5 p.m.-7 p.m.; July 23, 2004, 8:30 a.m.-5 p.m.; July 24, 2004, 9 a.m.-5:30 p.m.; July 25, 2004, 8 a.m.-10:30 a.m.

Place: Capitol Hilton, 1001 16th Street, NW., Washington, DC 20036, (202) 393-1000.

Status: The meeting will be open to the public.

Agenda: The Council will be meeting in Washington, DC, in conjunction with the National Health Service Corps Loan Repayment Conference. Members will meet with newly awarded loan re-payers, as the program pilots a new conference to share program expectations.

For Further Information Contact: Tira Robinson-Patterson, Division of National Health Service Corps, Bureau of Health Professions, Health Resources and Services Administration, Parklawn Building, Room 8A-55, 5600 Fishers Lane, Rockville, MD 20857, telephone (301) 594-4140.

Dated: June 17, 2004.
Tina M. Cheatham,
Director, Division of Policy Review and Coordination.

[FR Doc. 04-14268 Filed 6-23-04; 8:45 am]

BILLING CODE 4165-15-P